DEPARTMENT OF LABOR

Employment and Training Administration

[TA-W-70,398]

Cessna Aircraft Company, a Division of Textron, Inc., Including On-Site Leased Workers From Express Professional Staffing, Formerly Known as Express Employment Professionals, Bend, OR; Amended Certification Regarding Eligibility To Apply for Worker Adjustment Assistance

In accordance with section 223 of the Trade Act of 1974, as amended (“Act”), 19 U.S.C. 2273, the Department of Labor issued a Certification of Eligibility to Apply for Worker Adjustment Assistance on November 10th, 2009, applicable to workers of Cessna Aircraft Company, a division of Textron, Inc., including on-site leased workers from Express Professional Staffing, formerly known as Express Employment Professionals, Bend, Oregon. The notice was published in the Federal Register on January 25, 2010 (75 FR 3934).

At the request of the State Agency, the Department reviewed the certification for workers of the subject firm. The workers produced single engine aircraft.

Information shows that the on-site leased firm Express Professional Staffing was formerly known as Express Employment Professionals. Some workers separated from employment at the subject firm had their wages reported under two separate unemployment insurance (UI) tax account names Express Professional Staffing and Express Employment Professionals.

Accordingly, the Department is amending this certification to properly reflect this matter.

The intent of the Department's certification is to include all workers of the subject firm who were adversely affected by a shift in production in single engine aircraft to Mexico.

The amended notice applicable to TA-W-70,398 is hereby issued as follows:

All workers of Cessna Aircraft Company, a division of Textron, Inc, including on-site leased workers from Express Professional Staffing, formerly known as Express Employment Professionals, Bend, Oregon, who became totally or partially separated from employment on or after May 18, 2008, through two years from the certification, and all workers in the group threatened with total or partial separation from employment on date of certification through two years from the date of certification, are eligible to apply for adjustment assistance under Chapter 2 of Title II of the Trade Act of 1974, as amended.

Signed at Washington, DC this 22nd day of March 2010.
Michael W. Jaffe,
Certifying Officer, Division of Trade Adjustment Assistance.

[FR Doc. 2010-7324 Filed 3-31-10; 8:45 am]

BILLING CODE 4510-FN-P